DEPARTMENT OF TREASURY

Internal Revenue Service

Office of the General Counsel; Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. Brian Callanan, Deputy General Counsel

2. David Horton, Commissioner (Tax Exempt and Government Entities), IRS

3. Mary Beth Murphy, Commissioner (Small Business and Self Employed), IRS

Alternate—Donna C. Hansberry, Chief (Appeals), IRS

This publication is required by 5 U.S.C. 4314(c)(4).

Dated: October 24, 2018.
William M. Paul,
Acting Chief Counsel, Internal Revenue Service.

[FR Doc. 2018-23878 Filed 10-31-18; 8:45 am]

BILLING CODE 4830-01-P